Proclamation 9393 of January 29, 2016

National Teen Dating Violence Awareness and Prevention Month, 2016

By the President of the United States of America

A Proclamation

Teen dating violence is a serious violation that can affect a young person's safety, development, and sense of comfort. Perpetrated by a current or past intimate partner, dating violence takes many forms, including physical, sexual, or emotional abuse, and can occur in person or through electronic communication and social media. Violent dating relationships can lead to depression, anxiety, drug and alcohol use, and thoughts of suicide, and victims may continue to experience detrimental effects throughout their lives. During National Teen Dating Violence Awareness and Prevention Month, we recognize the urgency needed in addressing this problem and recommit to preventing it by educating our youth about its dangers and consequences, and reaffirm the basic human right to be free from violence and abuse.

Dating violence may include physical force, such as kicking, hitting, and shoving; emotional abuse, consistent monitoring, and isolation; or sexual assault. Dating violence can occur in any relationship, whether it is casual and short-term or long-term and monogamous, and any young person can experience dating violence or other unhealthy relationship behaviors—regardless of gender, race, religion, ethnicity, sexual orientation, or socioeconomic status. Approximately 1 in 10 teenagers reports being physically or sexually victimized by a dating partner, and too many other victims do not report it. The cycle of violence can begin with anyone at any time, and as a society, we must acknowledge that we each have a role to play in teaching children about healthy relationships. In their formative years, teens are influenced by their early relationships, and the example set by those around them can have lasting consequences.

My Administration is working diligently to address teen dating violence in a number of ways. Vice President Joe Biden's 1is2many initiative is strengthening efforts to reduce dating violence among those most vulnerable, particularly young women between the ages of 16 and 24, and is utilizing technology to engage students, teens, and young adults in this cause. To build on our efforts, I established the White House Task Force to Protect Students from Sexual Assault. The Task Force will, in addition to working to combat sexual violence on college campuses, explore ways its recommendations may apply to elementary and secondary schools across our country. My Administration will keep forging a future in which no teenager must suffer due to having an abusive partner.

All Americans have a role to play in ending dating violence and fostering safe, healthy environments for our young people. This month, let us seize our responsibility to set positive examples for our Nation's teenagers by celebrating and demonstrating healthy relationships, and let us recommit to ensuring all people who may be in an abusive relationship have access to help and support. Together, we can reach a day when no young person knows the pain caused by dating violence.

If you or someone you know is involved in an abusive relationship of any kind, you can get immediate and confidential support by calling 1-866-331-9474, texting “LoveIs” to 22522, or visiting LoveIsRespect.org. For additional information and resources on dating violence, please visit VetoViolence.CDC.gov.

NOW, THEREFORE, I, BARACK OBAMA, President of the United States of America, by virtue of the authority vested in me by the Constitution and the laws of the United States, do hereby proclaim February 2016 as National Teen Dating Violence Awareness and Prevention Month. I call upon all Americans to support efforts in their communities and schools, and in their own families, to empower young people to develop healthy relationships throughout their lives and to engage in activities that prevent and respond to teen dating violence.

IN WITNESS WHEREOF, I have hereunto set my hand this twenty-ninth day of January, in the year of our Lord two thousand sixteen, and of the Independence of the United States of America the two hundred and fortieth.

[FR Doc. 2016-02220

Filed 2-2-16; 11:15 am]

Billing code 3295-F6-P